DEPARTMENT OF TRANSPORTATION

Federal Transit Administration

[Docket No. FTA-2022-0029]

Proposed Asset Disposition Guidance and Request for Comments

AGENCY: Federal Transit Administration (FTA), Department of Transportation (DOT).

ACTION: Notice of availability of proposed guidance relating to an asset disposition option for FTA recipients under the National Defense Authorization Act (NDAA) for fiscal year 2022.

SUMMARY: The Federal Transit Administration (FTA) has placed in the docket, and on its website, proposed guidance intended to provide clarity on an asset disposition option under the National Defense Authorization Act (NDAA) for fiscal year 2022. Under the new provision, FTA may authorize the transfer of an asset acquired with Federal assistance, but no longer needed for the originally authorized purpose, to a local governmental authority, non-profit organization, or other third-party entity if certain statutory criteria are met.

DATES: Comments must be submitted by April 14, 2023. Late filed comments will be considered to the extent practicable.

ADDRESSES: Please submit your comments by any of the following methods, identifying your submission with Docket Number FTA-2022-0029. All electronic submissions must be made to the U.S. Government electronic site at http://www.regulations.gov.

Federal e-Rulemaking Portal: Go to http://www.regulations.gov and follow the online instructions for submitting comments.

Mail: Docket Management Facility: U.S. Department of Transportation, 1200 New Jersey Avenue SE, West Building, Ground Floor, Room W12-140, Washington, DC 20590-0001.

Hand Delivery or Courier: West Building Ground Floor, Room W12-140, 1200 New Jersey Avenue SE, between 9 a.m. and 5 p.m. Eastern time, Monday through Friday, except Federal holidays.

Fax: 202-493-2251.

Instructions: You must include the agency name (Federal Transit Administration) and Docket number (FTA-2022-0029) for this notice at the beginning of each submission of your comments. Submit two copies of your comments if you submit them by mail. For confirmation that FTA received your comments, include a self-addressed stamped postcard. All comments received will be posted without change to www.regulations.gov including any personal information provided and will be available to internet users. You may review DOT's complete Privacy Act Statement published in the Federal Register on April 11, 2000 (65 FR 19477).

Docket Access: For access to the docket to read background documents and comments received, go to www.regulations.gov at any time or to the U.S. Department of Transportation, 1200 New Jersey Avenue SE, Docket Operations, M-30, West Building Ground Floor, Room W12-140, Washington, DC 20590 between 9:00 a.m. and 5:00 p.m. Eastern Standard Time, Monday through Friday, except Federal holidays.

FOR FURTHER INFORMATION CONTACT: For policy guidance questions, contact Maggie Schilling, Office of Budget and Policy, Federal Transit Administration, 1200 New Jersey Ave. SE, Room E52-315, Washington, DC 20590, phone: 202-366-1487, or maggie.schilling@dot.gov. For legal questions, contact Kathryn Loster at 202-705-1269 or email kathryn.loster@dot.gov.

SUPPLEMENTARY INFORMATION: FTA is seeking comment on proposed guidance, published as Frequently Asked Questions on FTA's website, regarding a new asset disposition option for FTA recipients. This guidance explains changes made to 49 U.S.C. 5334(h)(1) by the National Defense Authorization Act (NDAA) for fiscal year 2022 (Pub. L. 117-81). Specifically, section 6609 of the NDAA added a new disposition option for assets acquired with Federal assistance that are no longer needed for the originally authorized purpose. Under the new provision, FTA may authorize the transfer of property to a local government authority, non-profit organization, or other third-party entity if, among other criteria enumerated in the law, it will be used for transit-oriented development and include affordable housing. The proposed guidance, in the form of FAQs, is available on the agency's public website at: https://www.transit.dot.gov/funding/funding-finance-resources/notice-proposed-asset-disposition-guidance-and-request-comments. Based on public comment, FTA may revise the definitions and standards in the FAQ's.

After review and consideration of the comments provided on the proposed guidance, FTA will issue a final version of the guidance and will publish it on FTA's website. In addition, FTA will incorporate this statutory change to other relevant FTA guidance in the future when more comprehensive guidance updates occur, incorporating feedback FTA receives on this document as applicable.

Nuria I. Fernandez,
Administrator.

[FR Doc. 2023-05284 Filed 3-14-23; 8:45 am]

BILLING CODE 4910-57-P